DEPARTMENT OF AGRICULTURE

Food and Nutrition Service

Agency Information Collection Activities: Proposed Collection; Comment Request—WIC Farmers' Market Nutrition Program (FMNP) Financial Report (Form FNS-683); WIC Farmers' Market Nutrition Program Recipient Report (Form FNS-203); and WIC Farmers' Market Nutrition Program Regulations

AGENCY: Food and Nutrition Service (FNS), USDA.

ACTION: Notice.

SUMMARY: In accordance with the Paperwork Reduction Act of 1995, this notice announces the intention of FNS to request revisions to currently approved information collections in the WIC Farmers' Market Nutrition Program Financial Report (Form FNS-683); WIC Farmers' Market Nutrition Program Recipient Report (Form FNS-203); and WIC Farmers' Market Nutrition Program Regulations.

DATES: Written comments must be received by April 22, 2008.

ADDRESSES: Comments are invited on: (a) Whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on those who are to respond, including through the use of appropriate automated, electronic, mechanical, or other technological collection techniques or other forms of information technology.

FNS invites interested persons to submit comments on this notice. Comments may be submitted by any of the following methods:

• Mail: Send comments to Debra R. Whitford, Chief, Policy and Program Development Branch, Supplemental Food Programs Division, Food and Nutrition Service, U.S. Department of Agriculture, 3101 Park Center Drive, Room 528, Alexandria, Virginia 22302.

• Web site: Go to http://www.fns.usda.gov/wic. Follow the online instructions for submitting comments through the link at the Supplemental Food Programs Division Web site.

• E-Mail: Send comments to WICHQ-SFPD@fns.usda.gov. Include title in the subject line of the message.

• Federal eRulemaking Portal: Go to http://www.regulations.gov. Follow the online instructions for submitting comments.

In all cases, including when comments are sent via e-mail, please label your comments as “Proposed Collection of Information: WIC Farmers' Market Nutrition Program.”

All written comments will be open for public inspection at the office of the Food and Nutrition Service during regular business hours (8:30 a.m. to 5 p.m. Monday through Friday) at 3101 Park Center Drive, Room 522, Alexandria, Virginia 22302.

All responses to this notice will be summarized and included in the request for OMB approval, and will become a matter of public record.

FOR FURTHER INFORMATION CONTACT: Requests for additional information or copies of the information collection form and instructions should be directed to: Debra Whitford, (703) 305-2746.

SUPPLEMENTARY INFORMATION: Title: The WIC Farmers' Market Nutrition Program (FMNP) Forms and Regulations.

OMB Number: 0584-0447.

Form Numbers: Form FNS-683 and FNS-203.

Expiration Date: April 30, 2008.

Type of Request: Revision to a Currently Approved Information Collection.

Abstract: Pursuant to Section 17(m)(8) of the Child Nutrition Act of 1966, 42 U.S.C. § 1786(m)(8), 7 CFR 248.23 of the WIC Farmers' Market Nutrition Program (FMNP) regulations requires that certain Program-related information be compiled and submitted to FNS. Each State agency administering the FMNP is required to use FNS-683 and FNS-203 to report financial and participation data to the Secretary as required by 7 CFR Part 3016. FNS will use this information for funding and program management decisions. Based on the previous submission of reporting and recordkeeping requirements for the FMNP, 44 State agencies administered the program, including the authorization of 2,259 farmers' markets, 15,241 farmers, and 1,339 roadside stands to accept FMNP coupons. Due to program growth, currently 45 State agencies administer the program, including the authorization of 2,896 farmers' markets, 14,259 farmers, and 2,136 roadside stands authorized to accept FMNP coupons (for a total of 19,291 authorized entities). An adjustment has been made to the burden to include a requirement not previously identified and due to an increase in the number of state agencies reporting, FNS is requesting a revision to this previously approved information collection.

Affected Public: State Agencies administering the FMNP and participating farmers, farmers' markets, and roadside stands.

Estimated Number of Respondents: 6,476.

Estimated Number of Responses: 15,226.

Total Annual Burden: 20,221 hours.

Dated: February 15, 2008.
Roberto Salazar,
Administrator, Food and Nutrition Service.

[FR Doc. E8-3318 Filed 2-21-08; 8:45 am]

BILLING CODE 3410-30-P